DEPARTMENT OF COMMERCE

National Oceanic and Atmospheric Administration

Announcement for the Upcoming Small Business Innovation Research Program (SBIR) Notice of Funding Opportunity and Procurement Award Changes for Fiscal Year 2019 and Beyond

AGENCY: National Oceanic and Atmospheric Administration (NOAA), Office of Oceanic and Atmospheric Research (OAR), Technology Partnerships Office (TPO), Department of Commerce (DOC).

ACTION: Notice of awards process change and announcement of upcoming Small Business Innovation Research grants opportunity for FY 2019.

The U.S. Department of Commerce, National Oceanic and Atmospheric Administration (NOAA) will be processing all Small Business Innovation Research Program (SBIR) awards as grants beginning in FY 2019. Our goals are:

1. To transition the SBIR award process from acquisition (Contracts) to financial assistance (Grants), in order to:

a. Expand the scope of SBIR research projects, allowing more creativity on the part of interested small businesses and generating interest beyond “veteran” SBIR participants; and

b. Streamlining the award and funds distribution processes, refining NOAA's internal operations and facilitating prompt and seamless payments for participating small businesses.

2. To provide Phase I awards as grants in FY 2019 and all new NOAA SBIR awards, Phase I and Phase II, in FY 2020 and beyond.

For over thirty years—since FY 1985—NOAA has awarded contracts to small, science and technology-focused companies under the Small Business Administration (SBA) administered Small Business Innovation Research Program. Historically, NOAA has carried out the goals and directives of the program using contract procurement processes. However, given the increased emphasis for broader participation, specially by socially and economically disadvantaged persons and women-owned small businesses, NOAA aims to meet these programmatic goals by broadening the potential research areas and engendering more innovative solutions that have potential for the commercial market.

The SBIR program is a highly competitive program that encourages domestic small businesses to engage in Federal Research/Research and Development with the potential for commercialization. Through a competitive awards-based program, SBIR enables small businesses to explore their technological potential and provides the incentive to profit from its commercialization. By including qualified small businesses in the nation's research and development arena, high-tech innovation is stimulated and the United States gains entrepreneurial spirit as it meets its specific research and development needs.

Beginning in FY19, however, all new Phase I awards will be made through a competitive grants process. During Phase I of the NOAA SBIR Program, small businesses are invited to submit innovative research proposals related to the research topic areas derived from the Department of Commerce Strategic Plan, 2018-2022, https://www.commerce.gov/file/us-department-commerce-2018-2022-strategic-plan. While the specific subtopics that NOAA seeks to fund through the SBIR program will be available at time of the funding opportunity announcement, the broader topic areas are as follows:

1. Aquaculture

2. Recreational and Commercial Fisheries

3. Weather Service Improvement and Evolution

4. NOAA Big Data Partnerships

5. Next Generation NOAA Platforms

6. Next Generation Observation and Modeling Systems

7. Floods

Phase I gives small businesses the opportunity to establish technical merit, feasibility, and proof of concept for the proposed innovative solution. At NOAA SBIR, we anticipate awarding multiple Phase I grants, with a period of performance of six (6) months and a not-to-exceed value of $120,000.00 each. Any organizations or individuals receiving grants under Phase I is eligible to compete for a follow-up Phase II award.

The FY19 SBIR Phase I Notice of Funding Opportunity (NOFO) will be issued on or about October 22, 2018. The NAICS Code for this acquisition is 541715. The NOAA SBIR NOFO will be available on the Grants.gov website. Please do not submit questions regarding this specific NOFO at this time. More detailed topic/subtopic information will be available in the NOFO when it is published. After the release of this funding announcement, it will be the offeror's responsibility to monitor Grants.gov for any amendments or updates.

The NOFO is a restricted eligibility solicitation which is limited to small businesses. For purposes of this upcoming NOFO announcement for NOAA SBIR, eligibility requirements can be found on http://www.sbir.gov. NOAA plans to select for award the application(s) judged to be of the highest overall merit, with consideration given to the quality of the technical approach, innovation, commercial-potential, and company/personnel experience and qualifications.

All potential grantees must be registered with the federal government System for Award Management (SAM) through the SAM.gov website (formerly the Central Contractor Registration database). No award can be made unless the vendor is registered in SAM.gov. For additional information and to register in SAM, please go to https://sam.gov/ or call 1-866-606-8220. In order to register in SAM and to be eligible to receive an award from this acquisition office, all offerors must have a Dun & Bradstreet Universal Systems (DUNS) Number. A DUNS number may be acquired free of charge by contacting Dun & Bradstreet on-line at http://fedgov.dnb.com/webform.

Grant applicants must obtain a DUNS number and register in the SAM prior to submitting an application pursuant to 2 CFR 25.200(b). If the applicant does not provide documentation that they are registered in SAM and their DUNS number, the application will not be considered for funding. In addition, an entity applicant must maintain registration in SAM at all times during which it has an active Federal award or an application or plan under consideration by the Agency.

Additional information concerning DUNS and SAM can be obtained on the Grants.gov website at http://www.grants.gov. In addition, Grants.gov provides access to technical support by calling 800-518-4726 or emailing support@grants.gov).

FOR FURTHER INFORMATION CONTACT: Vince Garcia, SBIR Program Manager at vincent.garcia@noaa.gov.

Dated: October 2, 2018.
David Holst,
Chief Financial Officer/Administrative Officer, Office of Oceanic and Atmospheric Research, National Oceanic and Atmospheric Administration.

[FR Doc. 2018-21788 Filed 10-5-18; 8:45 am]

BILLING CODE 3510-KA-P